DEPARTMENT OF COMMERCE

International Trade Administration

[A-580-816]

Corrosion-Resistant Carbon Steel Flat Products from the Republic of Korea: Preliminary Results of Antidumping Duty Administrative Review; 2011-2012

AGENCY: Import Administration, International Trade Administration, Department of Commerce.

SUMMARY: In response to requests from interested parties, the Department of Commerce (the Department) is conducting an administrative review of the antidumping duty order on corrosion-resistant carbon steel flat products (CORE) from the Republic of Korea (Korea), covering the period August 1, 2011, through February 14, 2012.¹ ² The review covers two mandatory respondents, Dongbu Steel Co., Ltd., (Dongbu), and Hyundai HYSCO (HYSCO), and five non-selected companies.³ We preliminarily determine that Dongbu sold subject merchandise at less than normal value (NV) during the POR. We preliminarily determine that HYSCO did not sell subject merchandise at less than NV during the POR.

¹ See Initiation of Antidumping and Countervailing Duty Administrative Reviews and Requests for Revocation in Part, 77 FR 59168 (September 26, 2012).

² The period of review (POR) ends on February 14, 2012 because the antidumping duty order on CORE from Korea was revoked effective this date. See Corrosion-Resistant Carbon Steel Flat Products from Germany and the Republic of Korea: Revocation of Antidumping and Countervailing Duty Orders, 78 FR 16832 (March 19, 2013) (CORE Revocation).

³ The non-selected companies are: Dongkuk Industries Co., Ltd. (Dongkuk), Haewon MSC Co. Ltd. (Haewon), LG Chem., Ltd. (LG Chem), LG Hausys, Ltd. (Hausys), and Union Steel Manufacturing Co., Ltd. (Union); see also Memorandum to Melissa G. Skinner, Director, Office 3, AD/CVD Operations through Eric Greynolds, Program Manager, Office 3, AD/CVD Operations from Christopher Hargett, Senior International Trade Compliance Analyst, Office 3, AD/CVD Operations, titled “Selection of Respondents for Individual Review,” dated November 19, 2012.

DATES: Effective Date: September 9, 2013.

FOR FURTHER INFORMATION CONTACT: Stephanie Moore (Dongbu) or Christopher Hargett (HYSCO), AD/CVD Operations, Office 8, Import Administration, International Trade Administration, U.S. Department of Commerce, 14th Street and Constitution Avenue NW., Washington, DC 20230; telephone: (202) 482-3692 or (202) 482-4161, respectively.

SUPPLEMENTARY INFORMATION:

Scope of the Order

Imports covered by the order are shipments of flat-rolled carbon steel products. The merchandise subject to review is currently classifiable under items 7210.30.0030, 7210.30.0060, 7210.41.0000, 7210.49.0030, 7210.49.0090, 7210.49.0091, 7210.49.0095, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090 of the Harmonized Tariff Schedule of the United States (HTSUS). Although the HTSUS subheadings are provided for convenience and customs purposes, the written description of the merchandise subject to the order is dispositive. For a full description of the scope of the order, see the “Decision Memorandum for the Preliminary Results of Antidumping Duty Administrative Review: Corrosion-Resistant Carbon Steel Flat Products from the Republic of Korea” from Gary Taverman, Senior Advisor for Antidumping and Countervailing Duty Operations, to Paul Piquado, Assistant Secretary for Import Administration, (Preliminary Decision Memorandum) dated concurrently with these results and hereby adopted by this notice.

The Preliminary Decision Memorandum is a public document and is on file electronically via Import Administration's Antidumping and Countervailing Duty Centralized Electronic Service System (IA ACCESS). IA ACCESS is available to registered users at http://iaaccess.trade.gov, and it is available to all parties in the Central Records Unit, room 7046 of the main Department of Commerce building. In addition, a complete version of the Preliminary Decision Memorandum can be accessed directly on the Internet at http://www.trade.gov/ia/. The signed Preliminary Decision Memorandum and the electronic versions of the Preliminary Decision Memorandum are identical in content.

Methodology

The Department has conducted this review in accordance with section 751(a)(2) of the Tariff Act of 1930, as amended (the Act). Constructed export price (CEP) is calculated in accordance with section 772 of the Act. NV is calculated in accordance with section 773 of the Act. For a full description of the methodology underlying our conclusions, see Preliminary Decision Memorandum.

Preliminary Results of the Review

As a result of this review, we preliminarily determine the following weighted-average dumping margins ⁴ for the period August 1, 2011, through February 14, 2012:

⁴ Because there was only one margin that was not zero or de minimis, we preliminarily are using this margin (Dongbu's) as the rate for the non-selected companies. Due to the revocation of this antidumping duty order effective February 14, 2012, the weighted-average margins listed in the rate chart will only be used to calculate the liquidation rate for the five non-selected companies in the instant review. If the final results of this review are unchanged from the Preliminary Results, the Department will liquidate entries for Dongbu based on the business proprietary assessment rates which the Department calculates for Dongbu in the instant review.

Producer and/or exporter | Weighted- average dumping margin (percent)
Dongbu Steel Co., Ltd | 7.64
Hyundai HYSCO | 0.00
Dongkuk Industries Co., Ltd | 7.64
Haewon MSC Co. Ltd | 7.64
LG Chem., Ltd | 7.64
LG Hausys, Ltd | 7.64
Union Steel Manufacturing Co., Ltd | 7.64

Disclosure and Public Comment

The Department will disclose to parties to this proceeding the calculations performed in reaching the preliminary results within five days of the date of publication of these preliminary results.⁵ Interested parties may submit written comments (case briefs) within 30 days of publication of the preliminary results and rebuttal comments (rebuttal briefs) within five days after the time limit for filing case briefs.⁶ Rebuttal briefs must be limited to issues raised in the case briefs.⁷ Parties who submit arguments are requested to submit with the argument: (1) A statement of the issue; (2) a brief summary of the argument; and (3) a table of authorities.⁸ All case and rebuttal briefs must be filed electronically using IA ACCESS, and must also be served on interested parties.⁹ An electronically filed document must be received successfully in its entirety by the Department's electronic records system, IA ACCESS, by 5:00 p.m. Eastern Standard Time within 30 days after the date of publication of this notice. Executive summaries should be limited to five pages total, including footnotes.

⁵ See 19 CFR 351.224(b).

⁶ See 19 CFR 351.309(c)(1)(ii) and 351.309(d)(1).

⁷ See 19 CFR 351.309(d)(2).

⁸ See 19 CFR 351.309(c)(2) and (d)(2).

⁹ See 19 CFR 351.303(f).

Within 30 days of the date of publication of this notice, interested parties who wish to request a hearing, or to participate if one is requested, must submit a written request to the Assistant Secretary for Import Administration, U.S. Department of Commerce, using Import Administration's IA ACCESS system.¹⁰ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.¹¹ Parties should confirm by telephone the date, time, and location of the hearing. Issues raised in the hearing will be limited to those raised in the respective case briefs.

¹⁰ See 19 CFR 351.310(c).

¹¹ See 19 CFR 351.310.

Unless the deadline is extended pursuant to section 751(a)(3)(A) of the Act, the Department will issue the final results of this administrative review, including the results of our analysis of the issues raised by the parties in their comments, within 120 days of publication of these preliminary results.

Assessment Rates

Upon issuance of the final results, the Department shall determine, and U.S. Customs and Border Protection (CBP) shall assess, antidumping duties on all appropriate entries covered by this review.¹² If the weighted-average dumping margin for Dongbu or HYSCO is not zero or de minimis (i.e., less than 0.5 percent), we will calculate importer-specific ad valorem antidumping duty assessment rates based on the ratio of the total amount of dumping calculated for the importer's examined sales to the total entered value of those same sales in accordance with 19 CFR 351.212(b)(1).¹³ We will instruct CBP to assess antidumping duties on all appropriate entries covered by this review when the importer-specific assessment rate calculated in the final results of this review is not zero or de minimis. Where either the respondent's weighted-average dumping margin is zero or de minimis, or an importer-specific assessment rate is zero or de minimis, we will instruct CBP to liquidate the appropriate entries without regard to antidumping duties.¹⁴ The final results of this review shall be the basis for the assessment of antidumping duties on entries of merchandise covered by the final results of this review where applicable.

¹² See 19 CFR 351.212(b)(1).

¹³ In these preliminary results, the Department applied the weighted-average dumping margin calculation method adopted in Antidumping Proceedings: Calculation of the Weighted-Average Dumping Margin and Assessment Rate in Certain Antidumping Duty Proceedings; Final Modification, 77 FR 8101 (February 14, 2012).

¹⁴ See 19 CFR 351.106(c)(2).

The Department clarified its “automatic assessment” regulation on May 6, 2003. This clarification will apply to entries of subject merchandise during the POR produced by each respondent for which they did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

We intend to issue instructions to CBP 15 days after publication of the final results of this review.

Cash Deposit Requirements

The Department notified CBP to discontinue the collection of cash deposits on entries of the subject merchandise, entered or withdrawn from warehouse, on or after February 14, 2012.¹⁵

¹⁵ See CORE Revocation, 78 FR 16832.

Notifications

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These preliminary results of review are issued and published in accordance with sections 751(a)(1) and 777(i)(1) of the Act.

Dated: August 30, 2013.
Paul Piquado,
Assistant Secretary for Import Administration.

Appendix—List of Topics Discussed in the Preliminary Decision Memorandum

1. Background

2. Period of Review

3. Scope of the Order

4. Discussion of Methodology

[FR Doc. 2013-21890 Filed 9-6-13; 8:45 am]

BILLING CODE 3510-DS-P